FEDERAL COMMUNICATIONS COMMISSION

Public Information Collection(s) Requirement Submitted to OMB for Emergency Review and Approval

September 29, 2004.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before November 4, 2004. If you anticipate that you will be submitting comments, but find it difficult to do so within the period of time allowed by this notice, you should advise the contacts listed below as soon as possible.

ADDRESSES: Direct all comments to Kristy L. LaLonde, Office of Management and Budget (OMB), Room 10236 NEOB, Washington, DC 20503, (202) 395-3087 or via the Internet at Kristy_L._LaLonde@omb.eop.gov, and Les Smith, Federal Communications Commission, Room 1-A804, 445 12th Street, SW., Washington, DC 20554 or via Internet to Leslie.Smith@fcc.gov.

FOR FURTHER INFORMATION CONTACT: For additional information or copies of the information collections contact Les Smith at (202) 418-0217 or via Internet at Leslie.Smith@fcc.gov.

SUPPLEMENTARY INFORMATION: The Commission has requested approval of these six information collections under the emergency processing provisions of the PRA by September 30, 2004.

OMB Control Number: 3060-XXXX.

Title: Digital Channel Election for Television Broadcast Station: Pre-Election Certification Form, FCC Form 381.

Form Number: FCC 381.

Type of Review: New collection

Respondents: Business and other for-profit entities; and not-for-profit institutions.

Number of Respondents: 1,700.

Estimated Time per Response: 2 hours.

Frequency of Response: One-time reporting requirement.

Total Annual Burden: 3,400 hours.

Total Annual Costs: $1,190,000.00.

Privacy Impact Assessment: No impact(s).

Needs and Uses: FCC Form 381 is to be used by television broadcast licensees and permittees to provide and certify the technical information that will be used to evaluate DTV channel elections during the channel election process. The form must be filed by all full-power television broadcast licensees and permittees. On September 7, 2004, the FCC released the Report and Order (“Order”), In the Matter of Second Periodic Review of the Commission's Rules and Policies Affecting the Conversion to Digital Television, MB Docket No. 03-15, FCC 04-192. This Order implements several steps necessary for the continued progress of the conversion of the nation's television system from analog to digital (DTV) technology, including a multi-step channel election process through which broadcast stations will select their channel for use after the digital transition. FCC Form 381 is one of six forms to be used by stations in this channel election process.

OMB Control Number: 3060-XXXX.

Title: Digital Channel Election Form: First Round Election, FCC Form 382.

Form Number: FCC 382.

Type of Review: New collection.

Respondents: Business or other for-profit entities; and not-for-profit institutions.

Number of Respondents: 1,666.

Estimated Time per Response: 2-5 hours.

Frequency of Response: One-time reporting requirement.

Total Annual Burden: 3,383 hours.

Total Annual Costs: $1,686,400.00.

Privacy Impact Assessment: No impact(s).

Needs and Uses: FCC Form 382 is to be used by television broadcast licensees and permittees currently assigned at least one in-core channel (i.e., channels 2-51) to make a channel election in Round One of the DTV channel election process for their final DTV operation. On September 7, 2004, the FCC released the Report and Order (“Order”), In the Matter of Second Periodic Review of the Commission's Rules and Policies Affecting the Conversion to Digital Television, MB Docket No. 03-15, FCC 04-192. This Order implements several steps necessary for the continued progress of the conversion of the nation's television system from analog to digital (DTV) technology, including a multi-step channel election process through which broadcast stations will select their channel for use after the digital transition. FCC Form 382 is one of six forms to be used by stations in this channel election process.

OMB Control Number: 3060-XXXX.

Title: Digital Channel Election Form: First Round Conflict Decision, FCC Form 383.

Form Number: FCC 383.

Type of Review: New collection.

Respondents: Business or other for-profit entities; and not-for-profit institutions.

Number of Respondents: 413.

Estimated Time per Response: 5 hours.

Frequency of Response: One-time reporting requirement.

Total Annual Burden: 2,065 hours.

Total Annual Costs: $702,100.00.

Privacy Impact Assessment: No impact(s).

Needs and Uses: FCC Form 383 is to be used by television broadcast licensees and permittees that participated in Round One of the DTV channel election process and were notified by the Commission that their channel election results in an interference conflict to make a decision concerning their interference conflict. On September 7, 2004, the FCC released the Report and Order (“Order”), In the Matter of Second Periodic Review of the Commission's Rules and Policies Affecting the Conversion to Digital Television, MB Docket No. 03-15, FCC 04-192. This Order implements several steps necessary for the continued progress of the conversion of the nation's television system from analog to digital (DTV) technology, including a multi-step channel election process through which broadcast stations will select their channel for use after the digital transition. FCC Form 383 is one of six forms to be used by stations in this channel election process.

OMB Control Number: 3060-XXXX.

Title: Digital Channel Election Form: Second Round Election, FCC Form 384.

Form Number: FCC 384.

Type of Review: New collection.

Respondents: Business or other for-profit entities; and not-for-profit institutions.

Number of Respondents: 100.

Estimated Time per Response: 2-5 hours.

Frequency of Response: One-time reporting requirement.

Total Annual Burden: 203 hours.

Total Annual Costs: $101,200.00.

Privacy Impact Assessment: No impact(s).

Needs and Uses: FCC Form 384 is to be used by television broadcast licensees and permittees without a currently assigned in-core channel (i.e., channels 2-51) and licensees that released their only assigned in-core channel(s) in Round One of the DTV channel election process to make a channel election for their final DTV operation. On September 7, 2004, the FCC released the Report and Order (“Order”), In the Matter of Second Periodic Review of the Commission's Rules and Policies Affecting the Conversion to Digital Television, MB Docket No. 03-15, FCC 04-192. This Order implements several steps necessary for the continued progress of the conversion of the nation's television system from analog to digital (DTV) technology, including a multi-step channel election process through which broadcast stations will select their channel for use after the digital transition. FCC Form 384 is one of six forms to be used by stations in this channel election process.

OMB Control Number: 3060-XXXX.

Title: Digital Channel Election Form: Second Round Conflict Decision, FCC Form 385.

Form Number: FCC 385

Type of Review: New collection

Respondents: Business or other for-profit entities; and not-for-profit institutions.

Number of Respondents: 25.

Estimated Time per Response: 5 hours.

Frequency of Response: One-time reporting requirement.

Total Annual Burden: 125 hours.

Total Annual Costs: $43,000.00.

Privacy Impact Assessment: No impact(s).

Needs and Uses: FCC Form 385 is to be used by television broadcast licensees and permittees that have not received a tentative channel designation by this stage in the DTV channel election process, as well as certain other television broadcast licensees and permittees seeking an alternate tentative channel designation, to make a channel election for their final DTV operation. On September 7, 2004, the FCC released the Report and Order (“Order”), In the Matter of Second Periodic Review of the Commission's Rules and Policies Affecting the Conversion to Digital Television, MB Docket No. 03-15, FCC 04-192. This Order implements several steps necessary for the continued progress of the conversion of the nation's television system from analog to digital (DTV) technology, including a multi-step channel election process through which broadcast stations will select their channel for use after the digital transition. FCC Form 385 is one of six forms to be used by stations in this channel election process.

OMB Control Number: 3060-XXXX.

Title: Digital Channel Election Form: Third Round Election, FCC Form 386.

Form Number: FCC 386.

Type of Review: New collection.

Respondents: Business or other for-profit entities; and not-for-profit institutions

Number of Respondents: 85.

Estimated Time per Response: 2-5 hours.

Frequency of Response: One-time reporting requirements.

Total Annual Burden: 173 hours.

Total Annual Costs: $86,200.00.

Privacy Impact Assessment: No impact(s).

Needs and Uses: FCC Form 386 is to be used by television broadcast licensees and permittees that have not received a tentative channel designation by this stage in the DTV channel election process, as well as certain other television broadcast licensees and permittees seeking an alternate tentative channel designation, to make a channel election for their final DTV operation. On September 7, 2004, the FCC released the Report and Order (“Order”), In the Matter of Second Periodic Review of the Commission's Rules and Policies Affecting the Conversion to Digital Television, MB Docket No. 03-15, FCC 04-192. This Order implements several steps necessary for the continued progress of the conversion of the nation's television system from analog to digital (DTV) technology, including a multi-step channel election process through which broadcast stations will select their channel for use after the digital transition. FCC Form 386 is one of six forms to be used by stations in this channel election process.

Federal Communications Commission.
Marlene H. Dortch,
Secretary.

[FR Doc. 04-22370 Filed 10-4-04; 8:45 am]

BILLING CODE 6712-01-P